INTERNATIONAL TRADE COMMISSION

[Investigation No. 731-TA-1020 (Final)]

Barium Carbonate From China

Determination

On the basis of the record ¹ developed in the subject investigation, the United States International Trade Commission (Commission) determines, pursuant to section 735(b) of the Tariff Act of 1930 (19 U.S.C. § 1673d(b)) (the Act), that an industry in the United States is materially injured by reason of imports from China of barium carbonate, provided for in subheading 2836.60.00 of the Harmonized Tariff Schedule of the United States, that have been found by the Department of Commerce (Commerce) to be sold in the United States at less than fair value (LTFV).

¹ The record is defined in sec. 207.2(f) of the Commission's Rules of Practice and Procedure (19 CFR § 207.2(f)).

Background

The Commission instituted this investigation effective September 30, 2002, following receipt of a petition filed with the Commission and Commerce by Chemical Products Corporation, Cartersville, GA. The final phase of the investigation was scheduled by the Commission following notification of a preliminary determination by Commerce that imports of barium carbonate from China were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of April 16, 2003 (68 FR 18670). The hearing was held in Washington, DC, on July 31, 2003, and all persons who requested the opportunity were permitted to appear in person or by counsel.

The Commission transmitted its determination in this investigation to the Secretary of Commerce on September 19, 2003. The views of the Commission are contained in USITC Publication 3631 (September 2003) entitled Barium Carbonate from China: Investigation No. 731-TA-1020 (Final).

By order of the Commission.
Issued: September 22, 2003.
Marilyn R. Abbott,
Secretary.

[FR Doc. 03-24338 Filed 9-25-03; 8:45 am]

BILLING CODE 7020-02-P